DEPARTMENT OF JUSTICE

[OMB Number 1123-0013]

Agency Information Collection Activities; Proposed eCollection eComments Requested; United States Victims of State Sponsored Terrorism Fund Application Form

AGENCY: Criminal Division, U.S. Department of Justice.

ACTION: 60-Day notice.

SUMMARY: The U.S. Department of Justice, Criminal Division, United States Victims of State Sponsored Terrorism Fund, will be submitting the following information collection request to the Office of Management and Budget (OMB) for review and approval in accordance with the Paperwork Reduction Act of 1995.

DATES: Comments are encouraged and will be accepted for 60 days until September 17, 2019.

FOR FURTHER INFORMATION CONTACT: Additional comments especially on the estimated public burden or associated response time, suggestions, or need for a copy of the proposed information collection instrument with instructions, or additional information, should be directed to either the Special Master, United States Victims of State Sponsored Terrorism Fund, or the Chief, Program Management and Training Unit, Money Laundering and Asset Recovery Section, Criminal Division, U.S. Department of Justice, 950 Pennsylvania Avenue NW, Washington, DC 20530-0001, telephone (202) 353-2046.

SUPPLEMENTARY INFORMATION: Written comments and suggestions from the public and affected agencies concerning the proposed collection of information are encouraged. Your comments should address one or more of the following four points:

1. Evaluate whether the proposed collection of information is necessary for the proper performance of the functions of the agency, including whether the information will have practical utility;

2. Evaluate the accuracy of the agency's estimate of the burden of the proposed collection of information, including the validity of the methodology and assumptions used;

3. Evaluate whether and if so how the quality, utility, and clarity of the information to be collected can be enhanced; and

4. Minimize the burden of the collection of information on those who are to respond, including through the use of appropriate automated, electronic, mechanical, or other technological collection techniques or other forms of information technology, e.g., permitting electronic submission of responses.

Overview of This Information Collection:

1. Type of Information Collection: Extension of a currently approved collection.

2. The Title of the Form/Collection: Application Form for the U.S. Victims of State Sponsored Terrorism Fund.

3. The agency form number, if any, and the applicable component of the Department sponsoring the collection: Form number: N/A. The U.S. Victims of State Sponsored Terrorism Fund, U.S. Department of Justice, Criminal Division.

4. Affected public who will be asked or required to respond, as well as a brief abstract: The U.S. Victims of State Sponsored Terrorism Fund (“USVSST Fund”) was established to provide compensation to certain individuals who were injured as a result of acts of international terrorism by a state sponsor of terrorism. Under the Justice for United States Victims of State Sponsored Terrorism Act (“Act”), 34 U.S.C. 20144(c), an eligible claimant is (1) a U.S. person, as defined in 34 U.S.C. 20144(j)(8), with a final judgment issued by a U.S. district court under state or federal law against a state sponsor of terrorism and arising from an act of international terrorism, for which the foreign state was found not immune under provisions of the Foreign Sovereign Immunities Act, codified at 28 U.S.C. 1605A or 1605(a)(7) (as such section was in effect on January 27, 2008); (2) a U.S. person, as defined in 34 U.S.C. 20144(j)(8), who was taken and held hostage from the United States Embassy in Tehran, Iran, during the period beginning November 4, 1979, and ending January 20, 1981, or the spouse and child of that U.S. person at that time, and who is also identified as a member of the proposed class in case number 1:00-CV-03110 (EGS) of the United States District Court for the District of Columbia; or (3) the personal representative of a deceased individual in either of those two categories.

The information collected from the USVSST Fund's Application Form will be used to determine whether applicants are eligible for compensation from the USVSST Fund, and if so, the amount of compensation to be awarded. The Application Form consists of parts related to eligibility and compensation. The eligibility parts seek the information required by the Act to determine whether a claimant is eligible for payment from the USVSST Fund, including information related to participation in federal lawsuits against a state sponsor of terrorism under the Foreign Sovereign Immunities Act. The compensation parts seek the information required by the Justice for Victims of State Sponsored Terrorism Act to determine the amount of compensation for which the claimant is eligible. Specifically, the compensation parts seek information regarding any payments from sources other than the USVSST Fund that the claimant received, is entitled to receive, or is scheduled to receive, as a result of the act of international terrorism by a state sponsor of terrorism and the amount of compensatory damages awarded the claimant in a final judgment.

5. An estimate of the total number of applicants and the amount of time estimated for an average applicant to respond: It is estimated that 700 respondents may complete the Application Form. It is estimated that respondents will complete the paper form or the electronic form in an average of 1.5 hours.

6. An estimate of the total public burden (in hours) associated with the collection: The estimated public burden associated with this collection is 1,050 hours.

If additional information is required contact: Melody Braswell, Department Clearance Officer, United States Department of Justice, Justice Management Division, Policy and Planning Staff, Two Constitution Square, 145 N Street NE, 3E.405A, Washington, DC 20530.

Dated: July 16, 2019.
Melody Braswell,
Department Clearance Officer for PRA, U.S. Department of Justice.

[FR Doc. 2019-15382 Filed 7-18-19; 8:45 am]

BILLING CODE 4410-14-P